DEPARTMENT OF ENERGY

Federal Energy Regulatory Commission

[Docket No. AC04-92-000, et al.]

Sulphur Springs Valley Electric Cooperative, Inc., et al.; Electric Rate and Corporate Filings

September 30, 2004.

The following filings have been made with the Commission. The filings are listed in ascending order within each docket classification.

1. Sulphur Springs Valley Electric Cooperative, Inc.

[Docket No. AC04-92-000]

On August 20, 2004, Sulphur Springs Valley Electric Cooperative, Inc. (SSVEC), filed a request for waiver from the requirements of Order No. 646. 106 FERC ¶ 61,113 (2003). Interested parties may file a petition to intervene.

Comment Date: 5 p.m. Eastern Time on October 14, 2004.

2. MGE Energy, Inc., MGE Power LLC, MGE Power Elm Road LLC

[Docket No. EL04-136-000]

Take notice that on September 23, 2004, MGE Power LLC and MGE Power Elm Road LLC (Petitioners) filed a Petition Declaratory Order requesting the Commission to find that Petitioners are not public utilities under section 201(e) of the Federal Power Act.

Comment Date: 5 p.m. Eastern Time on October 22, 2004.

3. California Electricity Oversight Board, Complainant v. California Independent System Operator Corporation, Respondent

[Docket No. EL04-139-000]

Take notice that on September 29, 2004, the California Electricity Oversight Board (CEOB) filed a complaint requesting relief against California Independent System Operator Corporation (CAISO) pursuant to Rule 206 of the Commission's Rules of Practice and Procedure, 18 CFR, 385.206. CEOB requests (1) the Commission direct the CAISO to run Automatic Mitigation Procedures (AMP) in all hours of the Ex Post Price exceeds $91.87/MWh.; and (2) CEOB urges the Commission to direct the CAISO Department of Market Analysis to investigate and report to the Commission on whether a different financial break point for AMP should be more rationally set.

Comment Date: 5 p.m. Eastern Time on October 19, 2004.

4. Northeast Utilities Service Company; Select Energy, Inc.; Select Energy New York, Inc.; Northeast Generation Company

[Docket Nos. ER96-496-011, ER99-14-008, ER02-556-003 and ER99-4463-002]

Take notice that on September 27, 2004, Northeast Utilities Service Company (NUSCO), on behalf of The Connecticut Light and Power Company, Western Massachusetts Electric Company, Holyoke Water Power Company, Holyoke Power and Electric Company, and Public Service of New Hampshire (the NU Operating Companies), Select Energy, Inc. (Select), Select Energy New York, Inc. (SENY), and Northeast Generation Company (NGC) (collectively, Applicants) jointly filed with the Commission an updated market power analysis. NUSCO also states that the NU Operating Companies, Select, and NGC submit revised tariff sheets to amend their market-based rate schedules to add the market behavior rules adopted by the Commission in Docket Nos. EL01-118-000 and 001.

Comment Date: 5 p.m. Eastern Time on October 18, 2004.

5. Idaho Power Company

[Docket No. ER97-1481-004]

Take notice that, on September 27, 2004, Idaho Power Company submitted a revised market-based rate tariff three-year update filing, in compliance with the Commission's Order issued on May 13, 2004, in Docket No. ER97-1481-003.

Idaho Power states that copies of the filing were served on parties on the official service list in Docket No. ER97-1481-003.

Comment Date: 5 p.m. Eastern Time on October 18, 2004.

6. Wisconsin Electric Power Company

[Docket No. ER98-855-004]

Take notice that, on September 27, 2004, Wisconsin Electric Power Company (Wisconsin Electric) submitted a compliance filing pursuant to the Commission's Order Implementing New Generation Market Power Analysis and Mitigation Procedures, issued on May 13, 2004, in Docket No. ER02-1406-001, et al.

Wisconsin Electric states that copies of the filing were served on parties on the official service list in Docket Nos. ER98-855-002 and 003.

Comment Date: 5 p.m. Eastern Time on October 18, 2004.

7. Avista Corporation; Avista Energy, Inc.; Spokane Energy, LLC; Avista Turbine Power, Inc.

[Docket Nos. ER99-1435-006, ER96-2408-019, ER98-4336-008, and ER00-1814-002]

Take notice that on September 27, 2004 and September 28, 2004, Avista Corporation d/b/a Avista Utilities (Avista Utilities) submitted a revised generation market power study submitted on behalf of three affiliates of Avista Utilities, Avista Energy, Inc., Spokane Energy, LLC and Avista Turbine Power, Inc., pursuant to the Commission's order issued May 13, 2004 in Docket No. ER02-1406-001, et al.

Comment Date: 5 p.m. Eastern Time on October 18, 2004.

8. The Empire District Electric Company

[Docket No. ER99-1757-005]

Take notice that, on September 27, 2004 and September 28, 2004, The Empire District Electric Company (Empire District) submitted a compliance filing pursuant to the Commission's order issued May 13, 2004 in Docket No. ER02-1406-001, et al., Acadia Power Partners, LLC, 107 FERC ¶ 61,168 (2004). Empire also submitted an amended market-based tariff to incorporate the Market Behavior Rules.

Empire District states that copies of the filing were served on parties on the official service list in the above-captioned proceeding.

Comment Date: 5 p.m. Eastern Time on October 18, 2004.

9. AG-Energy, L.P.; Power City Partners, L.P.; Seneca Power Partners, L.P.; Sterling Power Partners, L.P.; Sithe/Independence Power Partners, L.P.; Sithe Energy Marketing, L.P.

[Docket Nos. ER98-2782-007, ER03-42-007, and ER02-2202-006]

Take notice that on September 27, 2004, AG-Energy, L.P., Power City Partners, L.P., Seneca Power Partners, L.P., Sterling Power Partners, L.P., Sithe/Independence Power Partners, L.P., and Sithe Energy Marketing, L.P. (collectively, the Sithe Entities) submitted a revised triennial market power update in compliance with the Commission's May 13, 2004 Order, Acadia Power Partners, LLC, et al., Docket Nos. ER02-1406-001, et al., 107 FERC ¶ 61,168 (2004).

Sithe Entities state that copies of the filing were served on parties on the official service list in the above-captioned proceedings.

Comment Date: 5 p.m. Eastern Time on October 18, 2004.

10. Puget Sound Energy, Inc.

[Docket No. ER99-845-005]

Take notice that on September 24, 2004, Puget Sound Energy, Inc. (Puget) tender for filing a supplement to its August 11, 2004 filing of a generation market power analysis in accordance with AEP Power Marketing, Inc., et al., 107 FERC ¶ 61,018, order on reh'g, 108 FERC ¶ 61,026 (2004) and Acadia Power Partners, LLC, et al., 107 FERC ¶ 61,168 (2004) (May 13 Order).

Comment Date: 5 p.m. Eastern Time on October 15, 2004.

11. Mountain View Power Partners, Inc.

[Docket No. ER01-751-006]

Take notice that, on September 27, 2004, Mountain View Power Partners, Inc. (MVPP) submitted an amendment to it updated market power analysis in compliance with the Commission's order issued May 13, 2004 Implementing New Generation Market Power Analysis and Mitigation Procedures, 107 FERC ¶ 61,168 (2004).

Comment Date: 5 p.m. Eastern Time on October 18, 2004.

12. Westar Energy, Inc.; Kansas Gas and Electric Company

[Docket No. ER03-9-002]

Take notice that, on September 27, 2004, Westar Energy, Inc. and Kansas Gas and Electric Company (together, Westar) submitted a compliance filing pursuant to the Commission's order issued May 13, 2004 in Docket No. ER02-1406-001, et al., Acadia Power Partners, LLC, 107 FERC ¶ 61,168 (2004). Westar also submitted for filing a revised market-based rate to incorporate the market behavior rules.

Westar states that copies of the filing were served on parties on the official service list in Docket No. ER99-1757-000.

Comment Date: 5 p.m. Eastern Time on October 18, 2004.

13. Delmarva Power & Light Company

[Docket Nos. ER04-509-001 and ER04-1250-000]

Take notice that on September 24, 2004, Delmarva Power & Light Company (Delmarva) tendered for filing (1) seven executed Mutual Operating Agreements (MOA) with, respectively: the City of Seaford, Delaware; the City of Milford, Delaware; the City of Newark, Delaware; the City of New Castle, Delaware; the Town of Middletown, Delaware; the Town of Clayton, Delaware; and the Town of Smyrna, Delaware (collectively, the Municipalities), and (2) amendments to Attachment H of the PJM Interconnection, LLC Open Access Transmission Tariff (Tariff Amendments).

Delmarva requests an effective date of July 1, 2004.

Delmarva states that copies of the filing were served upon the Municipalities, DEMEC and the Delaware Public Service Commission.

Comment Date: 5 p.m. Eastern Time on October 15, 2004.

14 . Mystic L, LLC, Mystic Development, LLC, Fore River Development, LLC

[Docket Nos. ER04-657-002, ER04-660-002, and ER04-659-002]

Take notice that, on September 24, 2004, Boston Generating, LLC, (Boston Generating) on behalf of its three project companies Mystic I, LLC, Mystic Development, LLC and Fore River Development, LLC (collectively the Project Companies) submitted for filing an updated triennial market analysis, and revised tariffs to change the names of the Project Companies and incorporate the Commission's Market Behavior Rules.

Boston Generating states that copies of the filing were served on parties on the official service list in Docket Nos. ER98-1943-000, ER01-42-000 and ER01-41-000.

Comment Date: 5 p.m. Eastern Time on October 15, 2004.

15. Conectiv Energy Supply, Inc.

[Docket No. ER04-1125-000]

Take notice that, on September 27, 2004, Conectiv Energy Supply, Inc. (CESI) filed a request for withdrawal of its filing in the above captioned proceeding.

CESI states that this filing was served on the Maryland Public Service Commission.

Comment Date: 5 p.m. Eastern Time on October 18, 2004.

16. Virginia Electric and Power Company

[Docket No. ER04-1241-000]

Take notice that on September 27, 2004, Virginia Electric and Power Company (Dominion Virginia Power) tendered for filing an amendment to the Contract for the Purchase of Electricity for Resale by Rural Electric Cooperatives dated March 20, 1967, by and between Dominion Virginia Power and Central Virginia Electric Cooperative, designated as First Revised Rate Schedule FERC No. 94. Dominion Virginia Power requests an effective date of November 26, 2004.

Dominion Virginia Power states that copies of the filing were served upon Central Virginia Electric Cooperative, the Virginia State Corporation Commission, and the North Carolina Utilities Commission.

Comment Date: 5 p.m. Eastern Time on October 18, 2004.

17. Public Service Company of New Mexico

[Docket No. ER04-1242-000]

Take notice that on September 27, 2004, Public Service Company of New Mexico (PNM) submitted the following agreements for filing (1) Six separate Economic Benefit Contracts between PNM and the following entities, filed as Non-Conforming Network Integration Transmission Service Agreements under PNM's Open Access Transmission Tariff: (a) PNM's Wholesale Power Marketing Department (PNM Merchant), Western Area Power Administration (Western), and Pueblo de Cochiti; (b)PNM Merchant, Western, and Pueblo of San Felipe; (c) PNM Merchant, Western, and Pueblo of Sandia; (d) PNM Merchant, Western, and Pueblo of Santa Ana; (e) PNM Merchant, Western, and Pueblo of Santo Domingo; and (f)PNM Merchant, Western, and Pueblo of Tesuque; and (2) an Amended and Restated Contract No. 8-07-40-P0695 between PNM and Western. PNM states that the purpose of the agreements is to facilitate Western's allocation of Federal power to certain pueblos located within PNM's service territory.

PNM states that copies of the filing were served upon Western, the Pueblos, and informational copies were served upon the New Mexico Public Regulation Commission and the New Mexico Attorney General.

Comment Date: 5 p.m. Eastern Time on October 18, 2004.

18. The Cincinnati Gas & Electric Company

[Docket No. ER04-1247-000]

Take notice that on September 27, 2004, The Cincinnati Gas & Electric Company (CG&E) tendered for filing a Notice of Cancellation, pursuant to 18 CFR 35.15, to reflect the termination of the Long Term Power Sales Agreement between CG&E and The Union Light, Heat & Power Company (ULH&P), Rate Schedule FERC No. 56.

CG&E states that copies of the filing were served upon ULH&P.

Comment Date: 5 p.m. Eastern Time on October 18, 2004.

19. The Union Light, Heat and Power Company; The Cincinnati Gas & Electric Company

[Docket No. ER04-1248-000]

Take notice that on September 27, 2004, The Union Light, Heat and Power Company (ULH&P) and The Cincinnati Gas & Electric Company (CG&E) (collectively, the Applicants) each tendered for filing a Purchase, Sale and Operation Agreement between CG&E and ULH&P.

Applicants state that copies of the filing were served upon the Kentucky Public Service Commission.

Comment Date: 5 p.m. Eastern Time on October 18, 2004.

20. The Cincinnati Gas & Electric Company

[Docket No. ER04-1249-000]

Take notice that on September 27, 2004, The Cincinnati Gas & Electric Company (CG&E) tendered for filing a Facilities Operation Agreement between CG&E and The Union Light, Heat and Power Company (ULH&P). CG&E states that the Facilities Operation Agreement sets forth the rates, terms, and conditions under which CG&E will transform the voltage of electric power originating at generating plants to be owned by ULH&P.

CG&E states that copies of the filing were served upon the Kentucky Public Service Commission.

Comment Date: 5 p.m. Eastern Time on October 18, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2538 Filed 10-7-04; 8:45 am]

BILLING CODE 6717-01-P